DEPARTMENT OF COMMERCE

International Trade Administration

[C-489-806]

Pasta From Turkey: Final Results of Countervailing Duty Administrative Review; 2014

AGENCY: Enforcement and Compliance, International Trade Administration, Department of Commerce.

SUMMARY: On August 10, 2016, the Department of Commerce (the Department) published the preliminary results of the administrative review of the countervailing duty order on pasta from Turkey. The period of review (POR) is January 1, 2014, through December 31, 2014. The review covers one producer/exporter of subject merchandise: Bessan Makarna Gida San. Ve Tic. A.Ş. (Bessan). We invited parties to comment on the Preliminary Results. We received no comments. Accordingly, for the final results, we continue to find that Bessan received countervailable subsidies during the POR.

DATES: Effective December 15, 2016.

FOR FURTHER INFORMATION CONTACT: Aimee Phelan or Mark Kennedy, AD/CVD Operations, Office I, Enforcement and Compliance, International Trade Administration, U.S. Department of Commerce, 1401 Constitution Avenue NW, Washington, DC 20230; telephone: (202) 482-0697 or (202) 482-7883, respectively.

SUPPLEMENTARY INFORMATION:

Background

On August 10, 2016, the Department published the Preliminary Results of the administrative review.¹ The Department gave interested parties an opportunity to comment on the Preliminary Results. We received no comments. The Department has conducted this review in accordance with section 751 of the Tariff Act of 1930, as amended (the Act).

¹ See Pasta from Turkey: Preliminary Results of Countervailing Duty Administrative Review; 2014, 81 FR 52825 (August 10, 2016) (Preliminary Results) and accompanying Preliminary Decision Memorandum, unchanged in these final results.

Scope of the Order

The scope of the order consists of certain non-egg dry pasta in packages of five pounds (or 2.27 kilograms) or less, whether or not enriched or fortified or containing milk or other optional ingredients such as chopped vegetables, vegetable purees, milk, gluten, diastases, vitamins, coloring and flavorings, and up to two percent egg white. The pasta covered by the order is typically sold in the retail market, in fiberboard or cardboard cartons or polyethylene or polyethylene bags, of varying dimensions.

Excluded from the scope of the order are refrigerated, frozen, or canned pastas, as well as all forms of egg pasta, with the exception of non-egg dry pasta containing up to two percent egg white.

The merchandise under review is currently classifiable under subheading 1902.19.20 of the Harmonized Tariff Schedule of the United States (HTSUS). Although the HTSUS subheading is provided for convenience and customs purposes, our written description of the scope of the order is dispositive.

Final Results of Review

Because the Department received no comments with respect to the Preliminary Results, we made no changes to the Preliminary Results. As a result of this review, we determine that countervailable subsidies were provided to the respondent for the period January 1, 2014, through December 31, 2014, at the following rate:

Producer and/or exporter | Subsidy rate (percent)
Bessan Makarna Gida San. Ve Tic. A.Ş. Co. | 2.21

Assessment Rates

In accordance with 19 CFR 351.212(b)(2), the Department intends to issue assessment instructions to U.S. Customs and Boarder Protection (CBP) 15 days after the date of publication of these final results to liquidate shipments of subject merchandise produced by Bessan entered, or withdrawn from warehouse, for consumption on or after January 1, 2014 through December 31, 2014 at the percent rate, as listed above.

Cash Deposit Instructions

The Department also intends to instruct CBP to collect cash deposits of estimated CVDs in the amount shown above for shipments of subject merchandise by Bessan entered, or withdrawn from warehouse, for consumption on or after the date of publication of the final results of this review. For all non-reviewed firms, we will instruct CBP to collect cash deposits of estimated countervailing duties at the most recent company-specific or all-others rate applicable to the company. These cash deposit requirements, when imposed, shall remain in effect until further notice.

Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

We are issuing and publishing these results in accordance with sections 751(a)(1) and 777(i)(1) of the Act.

Dated: December 8, 2016.
Paul Piquado,
Assistant Secretary for Enforcement and Compliance.

[FR Doc. 2016-30151 Filed 12-14-16; 8:45 am]

BILLING CODE 3510-DS-P